DEPARTMENT OF TRANSPORTATION

Federal Aviation Administration

14 CFR Part 71

[Docket No. FAA-2020-0551; Airspace Docket No. 20-ASW-6]

RIN 2120-AA66

Revocation, Establishment, and Amendment of Class E Airspace; Multiple Texas Towns

AGENCY: Federal Aviation Administration (FAA), DOT.

ACTION: Final rule.

SUMMARY: This action revokes the Class E airspace extending upward from 700 feet above the surface at Ambassador Field, Big Sandy, TX; and establishes and amends Class E airspace extending upward from 700 feet above the surface at several Texas airports. This action is the result of airspace reviews caused by the decommissioning of the Quitman VHF omnidirectional range (VOR) navigation aid as part of the VOR Minimum Operational Network (MON) Program. The names and geographic coordinates of several airports are also being updated to coincide with the FAA's aeronautical database.

DATES: Effective 0901 UTC, November 5, 2020. The Director of the Federal Register approves this incorporation by reference action under Title 1 Code of Federal Regulations part 51, subject to the annual revision of FAA Order 7400.11 and publication of conforming amendments.

ADDRESSES: FAA Order 7400.11E, Airspace Designations and Reporting Points, and subsequent amendments can be viewed online at https://www.faa.gov/air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11E at NARA, email fedreg.legal@nara.gov or go to https://www.archives.gov/federal-register/cfr/ibr-locations.html.

FOR FURTHER INFORMATION CONTACT: Jeffrey Claypool, Federal Aviation Administration, Operations Support Group, Central Service Center, 10101 Hillwood Parkway, Fort Worth, TX 76177; telephone (817) 222-5711.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it revokes the Class E airspace extending upward from 700 feet above the surface at Ambassador Field, Big Sandy, TX; establishes Class E airspace extending upward from 700 feet above the surface at Fox Stephens Field-Gilmer Municipal Airport, Gilmer, TX; Gladewater Municipal Airport, Gladewater, TX; and Winnsboro Municipal Airport, Winnsboro, TX; and amends the Class E airspace upward from 700 above the surface at Wood County Airport-Collins Field, Mineola/Quitman, TX, contained within the Mineola, TX, airspace legal description, and at Mount Pleasant Regional Airport, Mount Pleasant, TX, to support instrument flight rule operations at these airports.

History

The FAA published a notice of proposed rulemaking in the Federal Register (85 FR 35206; June 8, 2020) for Docket No. FAA-2020-0551 to revoke the Class E airspace extending upward from 700 feet above the surface at Ambassador Field, Big Sandy, TX; and establish and amend Class E airspace extending upward from 700 feet above the surface at several Texas airports. Interested parties were invited to participate in this rulemaking effort by submitting written comments on the proposal to the FAA. No comments were received.

Subsequent to publication of the NPRM, the FAA discovered typographical errors in the geographic coordinates of Gladewater Municipal Airport, Gladewater, TX, (“long. 94°58′19″ W” should be “long. 94°58′18″ W”) and Mount Pleasant Regional Airport, Mount Pleasant, TX (“lat. 33°06′49″ N” should be “lat. 33°05′49″ N”). These errors are corrected in this action. Additionally, it was discovered that the name of Mineola Wisener Field (previously Mineola-Wisener Airport), Mineola, TX, should have been updated. As this update does not affect the airspace dimensions contained in the proposal, this omission is included in this action.

Class E airspace designations are published in paragraph 6005 of FAA Order 7400.11E, dated July 21, 2020, and effective September 15, 2020, which is incorporated by reference in 14 CFR 71.1. The Class E airspace designations listed in this document will be published subsequently in the Order.

Availability and Summary of Documents for Incorporation by Reference

This document amends FAA Order 7400.11E, Airspace Designations and Reporting Points, dated July 21, 2020, and effective September 15, 2020. FAA Order 7400.11E is publicly available as listed in the ADDRESSES section of this document. FAA Order 7400.11E lists Class A, B, C, D, and E airspace areas, air traffic service routes, and reporting points.

The Rule

This amendment to Title 14 Code of Federal Regulations (14 CFR) part 71:

Removes the Class E airspace extending upward from 700 feet above the surface at Ambassador Field, Big Sandy, TX, as the instrument procedures at this airfield have been cancelled so the airspace is no longer required;

Establishes Class E airspace extending upward from 700 feet above the surface within a 6.4-mile radius of Fox Stephens Field-Gilmer Municipal Airport, Gilmer, TX (This airspace was previously contained within the Big Sandy, TX, airspace legal description.);

Establishes Class E airspace extending upward from 700 feet above the surface within a 6.4-mile radius of Gladewater Municipal Airport, Gladewater, TX (This airspace was previously contained within the Big Sandy, TX, airspace legal description.);

Amends the Class E airspace extending upward from 700 feet above the surface to within a 6.4-mile (increased from a 6.3-mile) radius of Wood County Airport-Collins Field, Mineola/Quitman, TX, contained within the Mineola, TX, airspace legal description; adds an extension 3.8 miles east and 5.7 miles west of the 182° bearing from Wood County Airport-Collins Field extending from the 6.4-mile radius to 21.3 miles south of Wood County Airport-Collins Field; removes the cities associated with the Mineola Wisener Field, Mineola, TX, and Wood County Airport-Collins Field to comply with changes to FAA Order 7400.2M, Procedures for Handling Airspace Matters; updates the name and geographic coordinates of the Wood County Airport-Collins Field (previously Mineola-Quitman Airport) to coincide with the FAA's aeronautical database; and updates the name of Mineola Wisener Field (previously Mineola-Wisener Airport) to coincide with the FAA's aeronautical database;

Amends the Class E airspace extending upward from 700 feet above the surface to within a 6.6-mile (increased from a 6.4-mile) radius of Mount Pleasant Regional Airport, Mount Pleasant, TX; removes the Quitman VORTAC and Mount Pleasant RBN and the associated extensions from the airspace legal description, as they are no longer required; removes Winnsboro Municipal Airport, Winnsboro, TX, from the Mount Pleasant, TX, airspace legal description as the airspace no longer adjoins the Mount Pleasant Regional Airport airspace; and updates the name and geographic coordinates of the Mount Pleasant Regional Airport (previously Mount Pleasant Municipal Airport) to coincide with the FAA's aeronautical database.

And establishes Class E airspace extending upward from 700 feet above the surface within a 6.3-mile radius of Winnsboro Municipal Airport, Winnsboro, TX. (This airspace was previously contained within the Mount Pleasant, TX, airspace legal description but is being separated as the Winnsboro Municipal Airport airspace and Mount Pleasant Regional airspace no longer adjoin.) This action is the result of airspace reviews caused by the decommissioning of the Quitman VOR, which provided navigation information for the instrument procedures these airports, as part of the VOR MON Program.

FAA Order 7400.11, Airspace Designations and Reporting Points, is published yearly and effective on September 15.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5.a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71 —DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11E, Airspace Designations and Reporting Points, dated July 21, 2020, and effective September 15, 2020, is amended as follows:

Paragraph 6005 Class E Airspace Areas Extending Upward From 700 Feet or More Above the Surface of the Earth.

* * * * *

ASW TX E5 Big Sandy, TX [Removed]

* * * * *

ASW TX E5 Gilmer, TX [Establish]

Fox Stephens Field-Gilmer Municipal Airport, TX

(Lat. 32°41′53″ N, long. 94°56′56″ W)

That airspace extending upward from 700 feet above the surface within a 6.4-mile radius of Fox Stephens Field-Gilmer Municipal Airport.

* * * * *

ASW TX E5 Gladewater, TX [Establish]

Gladewater Municipal Airport, TX

(Lat. 32°31′44″ N, long. 94°58′18″ W)

That airspace extending upward from 700 feet above the surface within a 6.4-mile radius of Gladewater Municipal Airport.

* * * * *

ASW TX E5 Mineola, TX [Amended]

Mineola Wisener Field, TX

(Lat. 32°40′36″ N, long. 95°30′39″ W)

Wood County Airport-Collins Field, TX

(Lat. 32°44′32″ N, long. 95°29′47″ W)

That airspace extending upward from 700 feet above the surface within a 6.3-mile radius of Mineola Wisener Field, and within a 6.4-mile radius of Wood County Airport-Collins Field, and within 3.8 miles east and 5.7 miles west of the 182° bearing from the Wood County Airport-Collins Field extending from the 6.4-mile radius of Wood County Airport-Collins Field to 21.3 miles south of Wood County Airport-Collins Field.

* * * * *

ASW TX E5 Mount Pleasant, TX [Amended]

Mount Pleasant Regional Airport, TX

(Lat. 33°05′49″ N, long. 94°57′42″ W)

That airspace extending upward from 700 feet above the surface within a 6.6-mile radius of Mount Pleasant Regional Airport.

* * * * *

ASW TX E5 Winnsboro, TX [Establish]

Winnsboro Municipal Airport, TX

(Lat. 32°56′20″ N, long. 95°16′44″ W)

That airspace extending upward from 700 feet above the surface within a 6.3-mile radius of Winnsboro Municipal Airport.

Issued in Fort Worth, Texas, on September 1, 2020.
Martin A. Skinner,
Acting Manager, Operations Support Group, ATO Central Service Center.

[FR Doc. 2020-19606 Filed 9-4-20; 8:45 am]

BILLING CODE 4910-13-P